DEPARTMENT OF TRANSPORTATION

Federal Aviation Administration

14 CFR Part 39

[Docket No. 2003-NM-112-AD]

RIN 2120-AA64

Airworthiness Directives; Dornier Model 328-100 and Model 328-300 Series Airplanes

AGENCY: Federal Aviation Administration, DOT.

ACTION: Notice of proposed rulemaking (NPRM).

SUMMARY: This document proposes the adoption of a new airworthiness directive (AD) that is applicable to certain Dornier Model 328-100 and Model 328-300 series airplanes. This proposal would require repetitive detailed inspections of all attach caps of the passenger seats for cracks or defects; and replacement of the caps with new caps, if necessary. This action is necessary to prevent failure due to cracking of the seat frame attach caps on the passenger seat assemblies, which could result in separation of the passenger seat from the supporting structure during an emergency landing, hard landing, or turbulence, and consequent injury to the seat occupant. This action is intended to address the identified unsafe condition.

DATES: Comments must be received by April 5, 2004.

ADDRESSES: Submit comments in triplicate to the Federal Aviation Administration (FAA), Transport Airplane Directorate, ANM-114, Attention: Rules Docket No. 2003-NM-112-AD, 1601 Lind Avenue, SW., Renton, Washington 98055-4056. Comments may be inspected at this location between 9 a.m. and 3 p.m., Monday through Friday, except Federal holidays. Comments may be submitted via fax to (425) 227-1232. Comments may also be sent via the Internet using the following address: 9-anm-nprmcomment@faa.gov. Comments sent via fax or the Internet must contain “Docket No. 2003-NM-112-AD” in the subject line and need not be submitted in triplicate. Comments sent via the Internet as attached electronic files must be formatted in Microsoft Word 97 for Windows or ASCII text.

The service information referenced in the proposed rule may be obtained from AvCraft Aerospace GmbH, P.O. Box 1103, D-82230 Wessling, Germany. This information may be examined at the FAA, Transport Airplane Directorate, 1601 Lind Avenue, SW., Renton, Washington.

FOR FURTHER INFORMATION CONTACT: Tom Groves, Aerospace Engineer, International Branch, ANM-116, FAA, Transport Airplane Directorate, 1601 Lind Avenue, SW., Renton, Washington 98055-4056; telephone (425) 227-1503; fax (425) 227-1149.

SUPPLEMENTARY INFORMATION:

Comments Invited

Interested persons are invited to participate in the making of the proposed rule by submitting such written data, views, or arguments as they may desire. Communications shall identify the Rules Docket number and be submitted in triplicate to the address specified above. All communications received on or before the closing date for comments, specified above, will be considered before taking action on the proposed rule. The proposals contained in this action may be changed in light of the comments received.

Submit comments using the following format:

• Organize comments issue-by-issue. For example, discuss a request to change the compliance time and a request to change the service bulletin reference as two separate issues.

• For each issue, state what specific change to the proposed AD is being requested.

• Include justification (e.g., reasons or data) for each request.

Comments are specifically invited on the overall regulatory, economic, environmental, and energy aspects of the proposed rule. All comments submitted will be available, both before and after the closing date for comments, in the Rules Docket for examination by interested persons. A report summarizing each FAA-public contact concerned with the substance of this proposal will be filed in the Rules Docket.

Commenters wishing the FAA to acknowledge receipt of their comments submitted in response to this action must submit a self-addressed, stamped postcard on which the following statement is made: “Comments to Docket Number 2003-NM-112-AD.” The postcard will be date stamped and returned to the commenter.

Availability of NPRMs

Any person may obtain a copy of this NPRM by submitting a request to the FAA, Transport Airplane Directorate, ANM-114, Attention: Rules Docket No. 2003-NM-112-AD, 1601 Lind Avenue, SW., Renton, Washington 98055-4056.

Discussion

The Luftfahrt-Bundesamt (LBA), which is the airworthiness authority for Germany, notified the FAA that an unsafe condition may exist on certain Dornier Model 328-100 and -300 series airplanes. The LBA advises that it has received reports of instances of failure of the seat frame attach caps on the passenger seat assemblies due to cracking. This condition, if not corrected, could result in separation of the passenger seat from the supporting structure during an emergency landing, hard landing, or turbulence, which could result in injury to the seat occupant.

Explanation of Relevant Service Information

Dornier has issued Service Bulletin SB-328-25-412, dated November 21, 2002 (for Model 328-100 series airplanes); and Service Bulletin SB-328J-25-143, dated November 21, 2002 (for Model 328-300 series airplanes); as applicable. The service bulletins describe procedures for performing repetitive detailed inspections of all attach caps of the passenger seats for cracks or defects; for replacing the caps with new caps, if necessary; and for reporting inspection findings to the airplane and passenger seat manufacturers. Accomplishment of the actions specified in the service bulletins is intended to adequately address the identified unsafe condition. The LBA classified these service bulletins as mandatory and issued German airworthiness directive 2003-063, dated March 6, 2003, and German airworthiness directive 2003-072, dated March 6, 2003, in order to assure the continued airworthiness of these airplanes in Germany.

Additional Sources of Service Information

The Dornier service bulletins refer to B/E Aerospace Service Bulletin 2524.519/520-2532, dated November 2, 2001, and B/E Aerospace Service Bulletin 2524.519/520-2530, Revision C, dated November 12, 2001, as additional sources of service information for accomplishment of the inspections and replacement of the passenger seat attach caps.

FAA's Conclusions

These airplane models are manufactured in Germany and are type certificated for operation in the United States under the provisions of section 21.29 of the Federal Aviation Regulations (14 CFR 21.29) and the applicable bilateral airworthiness agreement. Pursuant to this bilateral airworthiness agreement, the LBA has kept the FAA informed of the situation described above. The FAA has examined the findings of the LBA, reviewed all available information, and determined that AD action is necessary for products of this type design that are certificated for operation in the United States.

Explanation of Requirements of Proposed Rule

Since an unsafe condition has been identified that is likely to exist or develop on other airplanes of the same type design registered in the United States, the proposed AD would require accomplishment of the actions specified in the service bulletins described previously, except as discussed below.

Difference Between Proposed Rule and Referenced Service Bulletins

Operators should note that, although the referenced service bulletins describe procedures for reporting all inspection findings to the airplane and passenger seat manufacturers, this proposed AD would not require those actions. The FAA does not need this information from operators.

Clarification Between Proposed Rule and German Airworthiness Directives

Although the German airworthiness directives specify accomplishing the repetitive detailed inspections every 8,000 flight hours or every 2C-Check, we have determined that compliance times should not be based on indefinite intervals such as “every 2 C-Check.” Since maintenance schedules vary from operator to operator, there can be no assurance that the action will be accomplished within the time frame for safe operation of the aircraft. Therefore we have added a specific calendar time limit of 48 months for the repetitive detailed inspections to align with the 2C-Check interval specified in the German airworthiness directives.

Cost Impact

The FAA estimates that 101 airplanes of U.S. registry would be affected by this proposed AD, that it would take approximately 3 work hours to accomplish the proposed inspection, and that the average labor rate is $65 per work hour. Based on these figures, the cost impact of the proposed AD on U.S. operators is estimated to be $19,695, or $195 per airplane, per inspection cycle.

The cost impact figure discussed above is based on assumptions that no operator has accomplished any of the proposed requirements of this AD action, and that no operators would accomplish those actions in the future if this proposed AD were not adopted. The cost impact figures discussed in AD rulemaking actions represent only the time necessary to perform the specific actions actually required by the AD. These figures typically do not include incidental costs, such as the time required to gain access and close up, planning time, or time necessitated by other administrative actions.

Regulatory Impact

The regulations proposed herein would not have a substantial direct effect on the States, on the relationship between the national Government and the States, or on the distribution of power and responsibilities among the various levels of government. Therefore, it is determined that this proposal would not have federalism implications under Executive Order 13132.

For the reasons discussed above, I certify that this proposed regulation (1) is not a “significant regulatory action” under Executive Order 12866; (2) is not a “significant rule” under the DOT Regulatory Policies and Procedures (44 FR 11034, February 26, 1979); and (3) if promulgated, will not have a significant economic impact, positive or negative, on a substantial number of small entities under the criteria of the Regulatory Flexibility Act. A copy of the draft regulatory evaluation prepared for this action is contained in the Rules Docket. A copy of it may be obtained by contacting the Rules Docket at the location provided under the caption ADDRESSES.

List of Subjects in 14 CFR Part 39

Air transportation, Aircraft, Aviation safety, Safety.

The Proposed Amendment

Accordingly, pursuant to the authority delegated to me by the Administrator, the Federal Aviation Administration proposes to amend part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

Fairchild Dornier GmbH (Formerly Dornier Luftfahrt GmbH): Docket 2003-NM-112-AD.

Applicability: Model 328-100 and -300 series airplanes, equipped with B/E Aerospace passenger seats, Model part number (P/N) 2524.519-.() and Model P/N 2524.520-.(); certificated in any category.

Compliance: Required as indicated, unless accomplished previously.

To prevent failure due to cracking of the seat frame attach caps on the passenger seat assemblies, which could result in separation of the passenger seat from the supporting structure during an emergency landing, hard landing, or turbulence, and consequent injury to the seat occupant, accomplish the following:

Service Bulletin References

(a) The term “service bulletin,” as used in this proposed AD, means the Accomplishment Instructions of Dornier Service Bulletin SB-328-25-412, dated November 21, 2002 (for Model 328-100 series airplanes); and Dornier Service Bulletin SB-328J-25-143, dated November 21, 2002 (for Model 328-300 series airplanes); as applicable.

Note 1: The Dornier service bulletins refer to B/E Aerospace Service Bulletin 2524.519/520-2532, dated November 2, 2001; and B/E Aerospace Service Bulletin 2524.519/520-2530, Revision C, dated November 12, 2001; as additional sources of service information for accomplishment of the inspections and replacement of the passenger seat attach caps.

Inspection

(b) Within 100 flight hours from the effective date of this AD, perform a detailed inspection of all attach caps of the passenger seats for cracks or defects, in accordance with the Accomplishment Instructions of the applicable service bulletin. Repeat the detailed inspection thereafter at intervals not to exceed 8,000 flight hours or 48 months, whichever comes first.

Note 2: For the purposes of this AD, a detailed inspection is defined as: “An intensive visual examination of a specific structural area, system, installation, or assembly to detect damage, failure, or irregularity. Available lighting is normally supplemented with a direct source of good lighting at intensity deemed appropriate by the inspector. Inspection aids such as mirror, magnifying lenses, etc., may be used. Surface cleaning and elaborate access procedures may be required.”

Replacement

(c) If any cracked or defective seat frame attach cap is found during any detailed inspection required by paragraph (b) of this AD, prior to further flight, replace the cap with a new cap in accordance with the applicable service bulletin.

Reporting Requirement

(d) Although the service bulletins referenced in this AD specify to submit certain information to the manufacturer, this AD does not include such a requirement.

Alternative Methods of Compliance

(e) In accordance with 14 CFR 39.19, the Manager, International Branch, ANM-116, FAA, Transport Airplane Directorate, is authorized to approve alternative methods of compliance (AMOCs) for this AD.

Note 3: The subject of this AD is addressed in German airworthiness directive 2003-063, dated March 6, 2003, and German airworthiness directive 2003-072, dated March 6, 2003.

Issued in Renton, Washington, on February 24, 2004.
Kalene C. Yanamura,
Acting Manager, Transport Airplane Directorate, Aircraft Certification Service.

[FR Doc. 04-4924 Filed 3-4-04; 8:45 am]

BILLING CODE 4910-13-P